EQUAL EMPLOYMENT OPPORTUNITY COMMISSION

Sunshine Act Notice

Agency Holding The Meeting: Equal Employment Opportunity Commission.

“Federal Register” Citation of Previous Announcement: 73 FR 5840, Thursday, January 31, 2008.

Previously Announced Time and Date of Meeting: Thursday, February 7, 2008, 2 p.m. (Eastern Time).

Change in The Meeting: The meeting has been cancelled.

Contact Person For More Information: Stephen Llewellyn, Executive Officer on (202) 663-4070.

Dated: January 31, 2008.
Stephen Llewellyn,
Executive Officer, Executive Secretariat.

[FR Doc. 08-508 Filed 1-31-08; 2:58 pm]

BILLING CODE 6570-01-M